ELECTION ASSISTANCE COMMISSION

Sunshine Act Notice

AGENCY: U.S. Election Assistance Commission.

ACTION: Notice of Public Meeting and Roundtable Discussion.

DATE AND TIME: Thursday, December 2, 2010. 10-11:30 a.m. (EST). 1:30-5 p.m. (EST).

PLACE: U.S. Election Assistance Commission, 1225 New York Ave., Suite 150, Washington, DC 20005, 202-566-3100.

MEETING AGENDA: The Commission will hold a public meeting to receive updates on the following topics: Commercial off-the-shelf (COTS) products; election official mentorship project. Commissioners will consider other administrative matters.

ROUNDTABLE DISCUSSION: The Commission will host a roundtable discussion with participants from the election official community and voting manufacturer industries to review the 2010 election.

Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting and hearing will be open to the public.

PERSON TO CONTACT FOR INFORMATION: Bryan Whitener, Telephone: (202) 566-3100.

Alice Miller,
Chief Operating Officer, U.S. Election Assistance Commission.

[FR Doc. 2010-29791 Filed 11-22-10; 4:15 pm]

BILLING CODE 6820-KF-P